OFFICE OF THE UNITED STATES TRADE REPRESENTATIVE

Notice of Effective Date

AGENCY: Office of the United States Trade Representative.

ACTION: Notice of effective date for goods of Mexico for certain modifications of the NAFTA Rules of Origin.

SUMMARY: In Proclamation 7870 of February 9, 2005, the President modified the rules of origin under the North American Free Trade Agreement (the “NAFTA”) incorporated in the Harmonized Tariff Schedule of the United States (the “HTS”). The modifications were made effective with respect to goods of Canada that are entered, or withdrawn from warehouse for consumption, on or after January 1, 2005. The proclamation stated that the modifications with respect to goods of Mexico would be effective on or after a date to be announced in the Federal Register by the USTR. The purpose of this notice is to announce that the effective date for the modifications for goods of Mexico is June 15, 2005. The changes were printed in the Federal Register of February 14, 2005, Volume 70, Number 29, pages 7611-7630.

FOR FURTHER INFORMATION CONTACT: For further information, please contact Kent Shigetomi, USTR, (202) 395-3412, or kent_shigetomi@ustr.eop.gov.

SUPPLEMENTARY INFORMATION: Presidential Proclamation 6641 of December 15, 1993 implemented the North American Free Trade Agreement (the “NAFTA”) with respect to the United States and, pursuant to the North American Free Trade Agreement Implementation Act (the “NAFTA Implementation Act”), incorporated in the Harmonized Tariff Schedule of the United States (the “HTS”) the tariff modifications and rules of origin necessary or appropriate to carry out the NAFTA. Section 202 of the NAFTA Implementation Act provides rules for determining whether goods imported into the United States originate in the territory of a NAFTA party and thus are eligible for the tariff and other treatment contemplated under the NAFTA. Section 202(q) of the NAFTA Implementation Act (19 U.S.C. 3332(q)) authorizes the President to proclaim, as a part of the HTS, the rules of origin set out in the NAFTA and to proclaim modifications to such previously proclaimed rules of origin, subject to the consultation and layover requirements of section 103(a) of the NAFTA Implementation Act (19 U.S.C. 3313(a)).

The President determined that the modifications to the HTS contained in Proclamation 7870 and made pursuant to sections 201 and 202 of the NAFTA Implementation Act, were appropriate and proclaimed such changes with respect to goods of Canada on February 9, 2005. The modifications were made effective with respect to goods of Canada that are entered, or withdrawn from warehouse for consumption, on or after January 1, 2005. For goods of Mexico, the President decided that the effective date of the modifications shall be determined by the United States Trade Representative (USTR).

On May 3, 2005, the government of Mexico obtained the necessary authorization to implement the rule of origin changes with respect to qualifying goods entering from the United States. Subsequently, officials from the government of Mexico and the government of the United States agreed to implement these changes with respect to each other's eligible goods, effective June 15, 2005.

Ambassador Rob Portman,
United States Trade Representative.

[FR Doc. 05-12586 Filed 6-27-05; 8:45 am]

BILLING CODE 3190-W5-P